DEPARTMENT OF COMMERCE

Bureau of Industry and Security

[Docket No. 021001228-2244-02]

National Defense Stockpile Market Impact Committee Request for Public Comments on the Potential Market Impact of Proposed Stockpile Disposals in FY 2003 and FY 2004

AGENCY: U.S. Department of Commerce.

ACTION: Correction to notice of inquiry.

SUMMARY: On October 15, 2002, the Bureau of Industry and Security published a Notice to advise the public that the National Defense Stockpile Market Impact Committee is seeking public comments on the potential market impact of proposed increases in the disposal levels of excess materials from the National Defense Stockpile under the Fiscal Year 2003 Annual Materials Plan and proposed commodity disposal levels under the Fiscal Year 2004 Annual Materials Plan. This Action corrects an error in the Supplementary Information section to indicate that the National Defense Stockpile Administrator is proposing revision of the previously approved Fiscal Year 2003 Annual Materials Plan quantities for five materials instead of three, as set forth in Attachment 1 to the Notice.

DATES: This action is effective November 4, 2002.

FOR FURTHER INFORMATION CONTACT: The co-chairs of the National Defense Stockpile Market Impact Committee. Contact either Richard V. Meyers, Office of Strategic Industries and Economic Security, Bureau of Industry and Security, U.S. Department of Commerce, (202) 482-3634 or Terri L. Robl, Office of International Energy and Commodity Policy, U.S. Department of State, (202) 647-3423.

SUPPLEMENTARY INFORMATION: In the Notice published on October 15, 2002 (67 FR 63606), the Bureau of Industry and Security (“BIS”) makes the following correction: On page 63607, in the second column, second line, under Supplementary Information, revise the phrase “quantities for three materials” to read “quantities for five materials.”

Dated: October 30, 2002.
James J. Jochum,
Assistant Secretary for Export Administration, Bureau of Industry and Security, U.S. Department of Commerce.

[FR Doc. 02-27911 Filed 11-1-02; 8:45 am]

BILLING CODE 3510-DR-P